DEPARTMENT OF COMMERCE

National Oceanic and Atmospheric Administration

50 CFR Part 679

[Docket No. 071106671-7723-01]

RIN 0648-XD67

Fisheries of the Exclusive Economic Zone Off Alaska; Gulf of Alaska; Proposed 2008 and 2009 Harvest Specifications for Groundfish

AGENCY: National Marine Fisheries Service (NMFS), National Oceanic and Atmospheric Administration (NOAA), Commerce.

ACTION: Proposed rule; request for comments.

SUMMARY: NMFS proposes 2008 and 2009 harvest specifications, reserves and apportionments, and Pacific halibut prohibited species catch (PSC) for the groundfish fishery of the Gulf of Alaska (GOA). This action is necessary to establish harvest limits for groundfish during the 2008 and 2009 fishing years and to accomplish the goals and objectives of the Fishery Management Plan for Groundfish of the Gulf of Alaska (FMP). The intended effect of this action is to conserve and manage the groundfish resources in the GOA in accordance with the Magnuson-Stevens Fishery Conservation and Management Act (Magnuson-Stevens Act).

DATES: Comments must be received by January 7, 2008.

ADDRESSES: You may submit comments, identified by “RIN 0648-XD67”, by any one of the following methods:

• Electronic Submissions: Submit all electronic public comments via the Federal eRulemaking Portal Web site at http://www.regulations.gov;

• Mail: P. O. Box 21668, Juneau, AK 99802;

• Fax: (907) 586-7557; or

• Hand delivery to the Federal Building: 709 West 9th Street, Room 420A, Juneau, AK.

Send comments to Sue Salveson, Assistant Regional Administrator, Sustainable Fisheries Division, Alaska Region, NMFS, Attn: Ellen Sebastian.

All comments received are a part of the public record and will generally be posted to http://www.regulations.gov without change. All Personal Identifying Information (e.g., name, address) voluntarily submitted by the commenter may be publicly accessible. Do not submit Confidential Business Information or otherwise sensitive or protected information.

NMFS will accept anonymous comments. Attachments to electronic comments will be accepted in Microsoft Word, Excel, WordPerfect, or Adobe PDF file formats only.

Copies of the Final Alaska Groundfish Harvest Specifications Environmental Impact Statement (Final EIS) and the Initial Regulatory Flexibility Analysis (IRFA) prepared for this action are available from NMFS at the addresses above or from the Alaska Region Web site at http://www.fakr.noaa.gov. Copies of the final 2006 Stock Assessment and Fishery Evaluation (SAFE) report for the groundfish resources of the GOA, dated November 2006, and the October 2007 North Pacific Fishery Management Council (Council) meeting minutes are available from the Council at 605 West 4th Avenue, Suite 306, Anchorage, AK 99510 or from its Web site at http://www.fakr.noaa.gov/npfmc.

FOR FURTHER INFORMATION CONTACT: Tom Pearson, Sustainable Fisheries Division, Alaska Region, 907-481-1780, or e-mail at tom.pearson@noaa.gov.

SUPPLEMENTARY INFORMATION: NMFS manages the GOA groundfish fisheries in the exclusive economic zone (EEZ) of the GOA under the FMP. The Council prepared the FMP under the authority of the Magnuson-Stevens Act, 16 U.S.C. 1801, et seq. Regulations governing U.S. fisheries and implementing the FMP appear at 50 CFR parts 600, 679, and 680.

These proposed specifications are based in large part on the 2006 SAFE reports. In November 2007, the 2007 SAFE reports were used to develop the 2008 and 2009 final acceptable biological catch (ABC) amounts. Anticipated changes in the final specifications from the proposed specifications are identified in this notice for public review.

The FMP and its implementing regulations require NMFS, after consultation with the Council, to specify the total allowable catch (TAC) for each target species and for the “other species” category, the sum of which must be within the optimum yield (OY) range of 116,000 to 800,000 metric tons (mt). Section 679.20(c)(1) further requires NMFS to publish and solicit public comment on proposed annual TACs, halibut PSC amounts, and seasonal allowances of pollock and inshore/offshore Pacific cod. The proposed specifications in Tables 1 through 17 of this document satisfy these requirements. For 2008 and 2009, the sum of the proposed TAC amounts is 286,173 mt. Under § 679.20(c)(3), NMFS will publish the 2008 and 2009 final specifications after (1) considering comments received within the comment period (see DATES), (2) consulting with the Council at its December 2007 meeting, and (3) considering information presented in the Final EIS and the final 2007 SAFE report prepared for the 2008 and 2009 groundfish fisheries.

Other Rules Affecting the 2008 and 2009 Harvest Specifications

Congress granted NMFS specific statutory authority to manage Central GOA rockfish fisheries in Section 802 of the Consolidated Appropriations Act of 2004 (Pub. L. 108-199; Section 802). The elements of the Central Gulf of Alaska Rockfish Pilot Program (Rockfish Program) are discussed in detail in the proposed and final rules to Amendment 68 to the FMP (71 FR 33040, June 7, 2006, and 71 FR 67210, November 20, 2006, respectively). The Rockfish Program is authorized for five years, from January 1, 2007 until December 31, 2011.

The Rockfish Program allocates exclusive harvesting and processing privileges for the following primary rockfish species: Northern rockfish, Pacific ocean perch, and pelagic shelf rockfish. Secondary species are those species incidentally harvested during the primary rockfish species fisheries and include Pacific cod, rougheye rockfish, shortraker rockfish, sablefish, and thornyhead rockfish. The Rockfish Program also allocates a portion of the total GOA halibut mortality limit annually specified under § 679.21 to participants based on historic halibut mortality rates in the primary rockfish species fisheries. The 2008 amounts of primary rockfish species, secondary species, and halibut mortality to be allocated to the Rockfish Program will not be known until eligible participants apply for participation in the Rockfish Program by March 1, 2008. These amounts will be posted on the Alaska Region Web site at http://www.fakr.noaa.gov when they become available early in 2008. The entry level allocation of rockfish, after subtraction of incidental catch amounts, is equal to 5 percent of the Central GOA TAC for Pacific ocean perch, northern rockfish, and pelagic shelf rockfish. Table 6 lists the proposed 2008 and 2009 allocations of rockfish in the Central GOA to the entry level fishery.

The Rockfish Program also establishes catch limits, commonly called “sideboards,” to limit the ability of participants eligible for this program to harvest fish in fisheries other than the Central GOA rockfish fisheries. Sideboards limit harvest in specific rockfish fisheries in the Western GOA and in the West Yakutat District and the amount of halibut bycatch that can be used in certain flatfish fisheries. Table 14 lists the proposed 2008 and 2009 Rockfish Program harvest limits. Table 15 lists the proposed 2008 and 2009 Rockfish Program halibut mortality limits for catcher processors and catcher vessels.

Proposed and final rules to implement Amendment 80 to the Fishery Management Plan for Groundfish of the Bering Sea and Aleutian Islands Management Area (BSAI FMP) were published in the Federal Register on May 30, 2007 (72 FR 30052) and September 14, 2007 (72 FR 52668). Amendment 80 (hereinafter referred to as the “Amendment 80 program”) allocates several BSAI non-pollock trawl groundfish fisheries among fishing sectors, and facilitates the formation of harvesting cooperatives in the non-American Fisheries Act (AFA) trawl catcher processor sector. The Amendment 80 program establishes a limited access privilege program for the non-AFA trawl catcher processor sector. In order to limit the ability of participants eligible for the Amendment 80 program to expand their harvest efforts in the GOA, the Amendment 80 program establishes groundfish and halibut PSC catch limits for Amendment 80 program participants in the GOA. Table 16 lists the proposed 2008 and 2009 sideboard limits for Amendment 80 program participants. Table 17 lists the proposed 2008 and 2009 halibut PSC limits for Amendment 80 vessels using trawl gear.

In April 2007, the Council recommended Amendment 77 to the GOA FMP. Amendment 77, if approved, would remove dark rockfish from the pelagic shelf rockfish (PSR) complex in the GOA FMP in order to allow the State to assume management of dark rockfish. This action is necessary to allow the State to implement more responsive, regionally based management measures than are currently possible under the FMP. From 1997 to 2005, NMFS survey biomass estimates of dark rockfish in the PSR complex have averaged 3.5 percent of the total PSR biomass. If Amendment 77 is approved, a reduction of 3.5 percent could be expected in the overfishing level (OFL), ABC, and TAC levels for the PSR complex in 2009. The amounts of 2009 PSR will be available following the Plan Team's meeting in November 2007.

Proposed ABC and TAC Specifications

The proposed ABCs and TACs are based on the best available biological and socioeconomic data, including projected biomass trends, information on assumed distribution of stock biomass, and revised methods used to calculate stock biomass. The FMP specifies the formulas, or tiers, to be used to compute ABCs and OFLs. The formulas applicable to a particular stock or stock complex are determined by the level of reliable information available to fisheries scientists. Tier one represents the highest level of information quality available and tier six represents the lowest level of information quality available.

In October 2007, the Council, the Scientific and Statistical Committee (SSC), and the Advisory Panel (AP), reviewed current biological and harvest information about the condition of GOA groundfish stocks, most of which was initially compiled by the GOA Groundfish Plan Team (Plan Team) and was presented in the final 2006 SAFE report for the GOA groundfish fisheries, dated November 2006 (see ADDRESSES). The SAFE report contains a review of the latest scientific analyses, estimates of each species' biomass and other biological parameters, as well as summaries of the available information on the GOA ecosystem and the economic condition of the groundfish fisheries off Alaska. From these analyses, the Plan Team estimates an ABC for each species category. The Plan Team will update the 2006 SAFE report to include new information collected during 2007. The Plan Team will provide revised stock assessments in November 2007 in the final 2007 SAFE report. The Council will review the 2007 SAFE report in December 2007. The final 2008 and 2009 harvest specifications may be adjusted from the proposed harvest specifications based on the 2007 SAFE report.

The SSC adopted the proposed 2008 and 2009 OFL and ABC recommendations from the Plan Team for all groundfish species. These amounts are unchanged from the final 2008 harvest specifications published in the Federal Register on March 5, 2007 (72 FR 9676). The AP and the Council recommendations for the proposed 2008 and 2009 OFL, ABC, and TAC amounts are also based on the final 2008 harvest specifications published in the Federal Register on March 5, 2007 (72 FR 9676). For 2008 and 2009, the Council recommended and NMFS proposes the OFLs and ABCs listed in Table 1. The proposed ABCs reflect harvest amounts that are less than the specified overfishing amounts. The sum of the proposed 2008 and 2009 ABCs for all assessed groundfish is 511,838 mt, which is higher than the final 2007 ABC total of 490,327 mt (72 FR 9676, March 5, 2007).

Specification and Apportionment of TAC Amounts

The Council recommended proposed TACs for 2008 and 2009 that are equal to proposed ABCs for pollock, deep-water flatfish, rex sole, sablefish, Pacific ocean perch, shortraker rockfish, rougheye rockfish, northern rockfish, pelagic shelf rockfish, thornyhead rockfish, demersal shelf rockfish, and skates. The Council recommended proposed TACs for 2008 and 2009 that are less than the proposed ABCs for Pacific cod, flathead sole, shallow-water flatfish, arrowtooth flounder, other rockfish, and Atka mackerel.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (50 CFR 679.23(d)(2)(i) through (iv) and 679.20(a)(5)(iv)(B)).

As in 2007, the SSC and Council recommended that the method of apportioning the sablefish ABC among management areas in 2008 and 2009 include commercial fishery and survey data. NMFS stock assessment scientists believe that unbiased commercial fishery catch-per-unit-effort data are useful for stock distribution assessments. NMFS evaluates annually the use of commercial fishery data to ensure that unbiased information is included in stock distribution models. The Council's recommendation for sablefish area apportionments also takes into account the prohibition on the use of trawl gear in the Southeast Outside (SEO) District of the Eastern Regulatory Area and makes available 5 percent of the combined Eastern Regulatory Area TACs to trawl gear for use as incidental catch in other directed groundfish fisheries in the West Yakutat District (WYK) (§ 679.20(a)(4)(i)).

The AP, SSC, and Council recommended apportioning the ABC for Pacific cod in the GOA among regulatory areas based on the three most recent NMFS summer trawl surveys. As in previous years, the Plan Team, SSC, and Council recommended that the sum of all State and Federal water Pacific cod removals from the GOA not exceed ABC recommendations. The proposed 2008 and 2009 Pacific cod TACs are affected by the State's fishery for Pacific cod in its waters in the Western and Central Regulatory Areas, as well as in Prince William Sound (PWS).

Accordingly, the Council recommended the proposed 2008 and 2009 Pacific cod TACs be reduced from proposed ABC amounts to account for guideline harvest levels (GHL) established for Pacific cod by the State for fisheries that occur in State waters of the GOA. Therefore, the proposed 2008 and 2009 Pacific cod TACs are less than the proposed ABCs by the following amounts (1) Eastern GOA, 428 mt; (2) Central GOA, 9,817 mt; and (3) Western GOA, 6,961 mt. These amounts reflect the sum of the State's 2008 and 2009 GHLs in these areas, which are 10 percent, 25 percent, and 25 percent of the Eastern, Central, and Western GOA proposed ABCs, respectively.

NMFS also is proposing seasonal apportionments of the annual Pacific cod TACs in the Western and Central Regulatory Areas. Sixty percent of the annual TAC is apportioned to the A season for hook-and-line, pot, or jig gear from January 1 through June 10, and for trawl gear from January 20 through June 10. Forty percent of the annual TAC is apportioned to the B season for hook-and-line, pot, or jig gear from September 1 through December 31, and for trawl gear from September 1 through November 1 (§§ 679.23(d)(3) and 679.20(a)(11)).

As in 2007, NMFS proposes to establish for 2008 and 2009 an A season directed fishing allowance (DFA) for the Pacific cod fisheries in the GOA based on the management area TACs minus the recent average A season incidental catch of Pacific cod in each management area before June 10 (§ 679.20(d)(1)). The DFA and incidental catch before June 10 will be managed such that total catch in the A season will be no more than 60 percent of the annual TAC. Incidental catch taken after June 10 will continue to be taken from the B season TAC. This action meets the intent of the Steller sea lion protection measures by achieving temporal dispersion of the Pacific cod removals and reducing the likelihood of catch exceeding 60 percent of the annual TAC in the A season (January 1 through June 10).

The FMP specifies that the amount for the “other species” category be set at an amount less than or equal to 5 percent of the combined TAC amounts for target species. The proposed 2008 and 2009 “other species” TACs of 4,500 mt are less than 5 percent of the combined proposed TAC amounts for target species for 2008 and 2009. The sum of the proposed TACs for all GOA groundfish is 286,173 mt for 2008 and 2009, which is within the OY range specified by the FMP. The sums of the proposed 2008 and 2009 TACs are lower than the sum of the 2007 TACs of 269,912 mt.

NMFS finds that the Council's recommendations for proposed OFL, ABC, and TAC amounts are consistent with the biological condition of groundfish stocks as adjusted for other biological and socioeconomic considerations, including maintaining the total TAC within the required OY range. Table 1 lists the proposed 2008 and 2009 ABCs, TACs, and OFLs of groundfish.

BILLING CODE 3610-22-P

BILLING CODE 3610-22-C

Proposed Apportionment of Reserves

Section 679.20(b)(2) requires that 20 percent of each TAC for pollock, Pacific cod, flatfish, and the “other species” category be set aside in reserves for possible apportionment at a later date during the fishing year. In 2007, NMFS apportioned all of the reserves in the final harvest specifications. For 2008 and 2009, NMFS proposes apportionment of all of the reserves for pollock, Pacific cod, flatfish, and “other species.” Table 1 reflects the apportionment of reserve amounts for these species and species groups.

Proposed Allocations of the Sablefish TAC Amounts to Vessels Using Hook-and-Line and Trawl Gear

Sections 679.20(a)(4)(i) and (ii) require allocation of sablefish TACs for each of the regulatory areas and districts to hook-and-line and trawl gear. In the Western and Central Regulatory Areas, 80 percent of each TAC is allocated to hook-and-line gear, and 20 percent of each TAC is allocated to trawl gear. In the Eastern GOA, 95 percent of the TAC is allocated to hook-and-line gear and 5 percent is allocated to trawl gear. The trawl gear allocation in the Eastern GOA may only be used to support incidental catch of sablefish in directed fisheries for other target species (§ 679.20(a)(4)(i)). In recognition of the trawl ban in the SEO District of the Eastern GOA, the Council recommended and NMFS proposes that the allocation of 5 percent of the combined Eastern Regulatory Area sablefish TAC be available to trawl gear in the WYK District and the remainder of the WYK sablefish TAC be available to vessels using hook-and-line gear. As a result, NMFS proposes to allocate 100 percent of the sablefish TAC in the SEO District to vessels using hook-and-line gear. This recommendation results in a proposed 2008 allocation of 281 mt to trawl gear and 1,988 mt to hook-and-line gear in the WYK District, and 3,353 mt to hook-and-line gear in the SEO District. Table 2 lists the allocations of the proposed 2008 sablefish TACs to hook-and-line and trawl gear. Table 3 lists the allocations of the proposed 2009 sablefish TACs to trawl gear. The Council recommended that only a trawl sablefish TAC be established for two years.

Proposed Apportionments of Pollock TAC Among Seasons and Regulatory Areas, and Allocations for Processing by Inshore and Offshore Components

In the GOA, pollock is apportioned by season and area, and is further divided between inshore and offshore processing components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among statistical areas 610, 620, and 630. In the A and B seasons, the apportionments are in proportion to the distribution of pollock biomass based on the four most recent NMFS winter surveys. In the C and D seasons, the apportionments are in proportion to the distribution of pollock biomass based on the four most recent NMFS summer surveys. For 2008 and 2009, the Council recommended averaging the winter and summer distribution of pollock in the Central Regulatory Area for the A season. The average is intended to reflect the distribution of pollock as indicated by the historic performance of the fishery during the A season. Within any fishing year, the amount by which a seasonal allowance is underharvested or overharvested may be added to, or subtracted from, subsequent seasonal allowances. The rollover amount is limited to 20 percent of the unharvested seasonal apportionment for the statistical area. Any unharvested pollock above the 20 percent limit could be further distributed to the other statistical areas, in proportion to the estimated biomass in the subsequent season in those statistical areas (§ 679.20(a)(5)(iv)(B)). The proposed pollock TACs in the WYK of 1,694 mt and SEO District of 6,157 mt for 2008 and 2009 are not allocated by season.

Section 679.20(a)(6)(i) requires the allocation of 100 percent of the pollock TAC in all regulatory areas and all seasonal allowances to vessels catching pollock for processing by the inshore component after subtraction of amounts that are projected by the Regional Administrator to be caught by, or delivered to, the offshore component incidental to directed fishing for other groundfish species. The amount of pollock available for vessels harvesting pollock for processing by the offshore component is that amount actually taken as incidental catch during directed fishing for groundfish species other than pollock, up to the maximum retainable amounts allowed under § 679.20(e) and (f). At this time, these incidental catch amounts are unknown and will be determined during the fishing year.

Table 4 lists the proposed 2008 and 2009 seasonal biomass distribution of pollock in the Western and Central Regulatory Areas, area apportionments, and seasonal allowances. The amounts of pollock for processing by the inshore and offshore components are not shown.

Proposed Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)). After subtraction of incidental catch, 60 percent and 40 percent of the annual TAC will be available for harvest during the A and B seasons, respectively, and will be apportioned between the inshore and offshore processing components, as provided in § 679.20(a)(6)(ii). Between the A and the B seasons, directed fishing for Pacific cod is closed, and fishermen participating in other directed fisheries must retain Pacific cod up to the maximum retainable amounts allowed under § 679.20(e) and (f). Under § 679.20(a)(11)(ii), any overage or underage of the Pacific cod allowance from the A season may be subtracted from or added to the subsequent B season allowance.

Section 679.20(a)(6)(ii) requires the allocation of the Pacific cod TAC apportionment in all regulatory areas between vessels catching Pacific cod for processing by the inshore and offshore components. Ninety percent of the Pacific cod TAC in each regulatory area is allocated to vessels catching Pacific cod for processing by the inshore component. The remaining 10 percent of the TAC is allocated to vessels catching Pacific cod for processing by the offshore component. Table 5 lists the proposed 2008 and 2009 seasonal apportionments and allocations of the Pacific cod TAC amounts.

Proposed Apportionments to the Central GOA Rockfish Pilot Program

Sections 679.81(a)(1) and (2) require the allocation of the primary rockfish species TACs in the Central Regulatory Area after deducting incidental catch needs in other directed groundfish fisheries. Five percent (2.5 percent to trawl gear and 2.5 percent to fixed gear) of the proposed TACs for Pacific ocean perch, northern rockfish, and pelagic shelf rockfish in the Central Regulatory Area are allocated to the entry level rockfish fishery and the remaining 95 percent to those vessels eligible to participate in the Rockfish Program. NMFS proposes 2008 and 2009 incidental catch amounts of 100 mt for northern rockfish, 100 mt for pelagic shelf rockfish, and 200 mt for Pacific ocean perch for other directed groundfish fisheries in the Central Regulatory Area. These proposed amounts are based on the 2003 through 2007 average incidental catch in the Central Regulatory Area by other groundfish fisheries.

Section 679.83(a)(1)(i) requires allocations to the trawl entry level fishery must be made first from the allocation of Pacific ocean perch available to the rockfish entry level fishery. If the amount of Pacific ocean perch available for allocation is less than the total allocation allowable for trawl catcher vessels in the rockfish entry level fishery, then northern rockfish and pelagic shelf rockfish must be allocated to trawl catcher vessels. Allocations of Pacific ocean perch, northern rockfish, and pelagic shelf rockfish to longline gear vessels must be made after the allocations to trawl gear.

Table 6 lists the proposed 2008 and 2009 allocations of rockfish in the Central GOA to trawl and longline gear in the entry level rockfish fishery.

Proposed Halibut PSC Limits

Section 679.21(d) establishes annual halibut PSC limit apportionments to trawl and hook-and-line gear and permits the establishment of apportionments for pot gear. In October 2007, the Council recommended that NMFS maintain the 2007 halibut PSC limits of 2,000 mt for the trawl fisheries and 300 mt for the hook-and-line fisheries for 2008 and 2009. Ten metric tons of the hook-and-line limit is further allocated to the demersal shelf rockfish (DSR) fishery in the SEO District. The DSR fishery is defined at § 679.21(d)(4)(iii)(A). This fishery has been apportioned 10 mt in recognition of its small scale harvests. Most vessels in the DSR fishery are less than 60 ft (18.3 m) length overall (LOA) making them exempt from observer coverage. Therefore, observer data are not available to verify actual bycatch amounts. NMFS assumes the halibut bycatch in the DSR fishery is low because of the short soak times for the gear and short duration of the fishery. Also, the DSR fishery occurs in the winter when less overlap occurs in the distribution of DSR and halibut. In 2006 and 2007, estimates of incidental catch of DSR in the commercial halibut fishery and estimates of sport fish catch have approached the final TACs for DSR. As a result, the Alaska Department of Fish and Game closed directed commercial fishing for DSR at the beginning of 2006 and 2007.

Section 679.21(d)(4) authorizes the exemption of specified non-trawl fisheries from the halibut PSC limit. As in past years, NMFS, after consultation with the Council, proposes to exempt pot gear, jig gear, and the sablefish IFQ (Individual Fishing Quota) hook-and-line gear fishery categories from the non-trawl halibut PSC limit for 2008 and 2009. The Council recommended these exemptions because (1) the pot gear fisheries have low halibut bycatch mortality (averaging 18 mt annually from 2001 through 2006 and 8 mt through September 22, 2007); (2) the halibut and sablefish IFQ fisheries have low halibut bycatch mortality because the IFQ program requires retention of legal-sized halibut by vessels using hook-and-line gear if a halibut IFQ permit holder is aboard and is holding unused halibut IFQ; and (3) halibut mortality for the jig gear fisheries is assumed to be negligible. Halibut mortality is assumed to be negligible in the jig gear fisheries given the low amount of groundfish harvested by jig gear (averaging 269 mt annually from 2001 through 2006, and 29 mt through September 22, 2007), the selective nature of jig gear, and the likelihood of high survival rates of halibut caught and released by jig gear.

Section 679.21(d)(5) provides NMFS with the authority to seasonally apportion the halibut PSC limits after consultation with the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2007 and 2008 harvest specifications (72 FR 9676, March 5, 2007) summarized the Council's and NMFS's findings with respect to each of these FMP considerations. The Council's and NMFS's findings for 2008 and 2009 are unchanged from 2007. Table 7 lists the proposed 2008 and 2009 Pacific halibut PSC limits, allowances, and apportionments. Sections 679.21(d)(5)(iii) and (iv) specify that any underages or overages of a seasonal apportionment of a PSC limit will be deducted from or added to the next respective seasonal apportionment within the fishing year.

Section 679.21(d)(3)(ii) authorizes further apportionment of the trawl halibut PSC limit to trawl fishery categories. The annual apportionments are based on each category's proportional share of the anticipated halibut bycatch mortality during a fishing year and optimization of the total amount of groundfish harvest under the halibut PSC limit. The fishery categories for the trawl halibut PSC limits are: (1) A deep-water species category, comprised of sablefish, rockfish, deep-water flatfish, rex sole, and arrowtooth flounder; and (2) a shallow-water species category, comprised of pollock, Pacific cod, shallow-water flatfish, flathead sole, Atka mackerel, skates, and “other species” (§ 679.21(d)(3)(iii)). Table 8 lists the proposed 2008 and 2009 seasonal apportionments of Pacific halibut PSC trawl limits for the deep-water and shallow-water species fishery categories. Based on public comment and information contained in the final 2007 SAFE report, the Council may recommend or NMFS may make changes in the seasonal, gear-type, or fishery category apportionments of halibut PSC limits for the final 2008 and 2009 harvest specifications.

Estimated Halibut Bycatch in Prior Years

The best available information on estimated halibut bycatch is data collected by observers during 2007. The calculated halibut bycatch mortality by trawl, hook-and-line, and pot gears through September 22, 2007, is 1,487 mt, 212 mt, and 8 mt, respectively, for a total halibut mortality of 1,707 mt.

Halibut bycatch restrictions seasonally constrained trawl gear fisheries during the 2007 fishing year. Trawling during the second season closed for the deep-water species category on May 17 (72 FR 28620, May 22, 2007), and during the third season on August 10 (72 FR 45697, August 15, 2007). Trawling during the second season closed for the shallow-water species category on June 4 (72 FR 31472, June 7, 2007), and during the third second season on August 10 (72 FR 45697, August 15, 2007). To prevent exceeding the fourth season halibut PSC limit for the shallow-water species category, directed fishing using trawl gear was limited to three 12-hour open periods on September 1 (72 FR 49229, August 28, 2007), September 6 (72 FR 51717, September 11, 2007), and September 11 (72 FR 52491, September 14, 2007), and to one 48-hour period beginning September 21 (72 FR 54603, September 26, 2007). Trawling for all groundfish targets (with the exception of pollock by vessels using pelagic trawl gear) closed for the fifth season on October 8 (72 FR 57888, October 11, 2007), reopened on October 10 (72 FR 58261, October 15, 2007) until October 15 (72 FR 59038, October 18, 2007), and reopened on October 22 (72 FR 60586, October 25, 2007). Fishing for groundfish using hook-and-line gear has remained open in 2007 as the halibut PSC limit has not been reached (as of October 11, 2007). The amount of groundfish that trawl gear might have harvested if halibut PSC limits had not restricted the 2007 season is unknown.

Expected Changes in Groundfish Stocks and Catch

Proposed 2008 and 2009 ABCs for pollock, Pacific cod, deep-water flatfish, flathead sole, arrowtooth flounder, Pacific ocean perch, and pelagic shelf rockfish are higher than those established for 2007 while the proposed 2008 and 2009 ABCs for rex sole and sablefish are lower than those established for 2007. For the remaining target species, the Council recommended that ABC levels remain unchanged from 2007. More information on these changes is included in the final SAFE report (November 2006) and in the Council, SSC, and AP minutes from the October 2007 meeting. These documents are available from the Council (see ADDRESSES).

In the GOA, the total proposed 2008 and 2009 TAC amounts are 286,173 mt, an increase of 6 percent from the 2007 TAC total of 269,912 mt. Table 9 compares the final 2007 TACs to the proposed 2008 and 2009 TACs.

Current Estimates of Halibut Biomass and Stock Condition

The most recent halibut stock assessment was conducted by the International Pacific Halibut Commission (IPHC) in December 2006 for the 2007 commercial fishery. The 2006 assessment contains substantial changes from the previous year. Information from ongoing passive integrated transponder (PIT) tag recoveries, as well as inconsistencies in the traditional closed-area stock assessments for some areas has prompted the IPHC to examine stock assessment frameworks. It had been assumed that once the halibut reached legal commercial size there was little movement between regulatory areas. PIT tag recoveries indicate greater movement between regulatory areas than previously thought. In response to this new information, the IPHC developed a coast wide assessment based on a single stock. The assessment adopted a coast-wide harvest rate of 20 percent of the exploitable biomass overall but a higher rate for some areas with net immigration. The IPHC adopted harvest rates of 25 percent in Area 2C, 20 percent in Areas 3A, 3B, and 4A, and 15 percent in Areas 4B, C, D, and E for 2007. The current exploitable halibut biomass in Alaska for 2007 was estimated to be 169,000 mt, down from 189,543 mt in 2006. The female spawning biomass remains far above the minimum biomass, which occurred in the 1970s.

The exploitable biomass of the Pacific halibut stock peaked at 326,520 mt in 1988. According to the IPHC, the long-term average reproductive biomass for the Pacific halibut resource was estimated at 118,000 mt. Long-term average yield was estimated at 26,980 mt, round weight. The species is fully utilized. Recent average catches (1994-2006) in the commercial halibut fisheries in Alaska have averaged 33,970 mt, round weight. Catch in waters off Alaska is 27 percent higher than long-term potential yield for the entire halibut stock, reflecting the good condition of the Pacific halibut resource. In January 2007, the IPHC approved Alaska commercial catch limits totaling 30,368 mt, round weight, in 2007, a 9 percent decrease from 33,421 mt in 2006. Through November 13, 2007, commercial hook-and-line harvests of halibut off Alaska totaled 26,084 mt, round weight.

Additional information on the Pacific halibut stock assessment may be found in the IPHC's 2006 Pacific halibut stock assessment (December 2006), available on the IPHC Web site at http://www.iphc.washington.edu. The IPHC will consider the 2007 Pacific halibut assessment for 2008 at its January 2007 annual meeting when it sets the 2008 commercial halibut fishery quotas.

Other Factors

The allowable commercial catch of halibut will be adjusted to account for the overall halibut PSC mortality limit established for groundfish fisheries. The 2008 and 2009 groundfish fisheries are expected to use the entire proposed annual halibut PSC limit of 2,300 mt. The allowable directed commercial catch is determined by first accounting for recreational and subsistence catch, waste, and bycatch mortality, and then providing the remainder to the directed fishery. Groundfish fishing is not expected to affect adversely the halibut stocks. Methods available for reducing halibut bycatch include: (1) Publication of individual vessel bycatch rates on the NMFS Alaska Region Web site at http://www.fakr.noaa.gov, (2) modifications to gear, (3) changes in groundfish fishing seasons, (4) individual transferable quota programs, and (5) time/area closures.

Reductions in groundfish TAC amounts provide no incentive for fishermen to reduce bycatch rates. Costs that would be imposed on fishermen as a result of reducing TAC amounts depend on the species and amounts of groundfish foregone.

Under 50 CFR 679.2, the definition of “Authorized fishing gear” specifies requirements for biodegradable panels and tunnel openings for groundfish pots to reduce halibut bycatch. As a result, low bycatch and mortality rates of halibut in pot fisheries have justified exempting pot gear from PSC limits.

The regulations at § 679.2 under “Authorized fishing gear,” also define “pelagic trawl gear” in a manner intended to reduce bycatch of halibut by displacing fishing effort off the bottom of the sea floor when certain halibut bycatch levels are reached during the fishing year. The definition provides standards for physical conformation and performance of the trawl gear in terms of crab bycatch (§ 679.7(a)(14)). Furthermore, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

NMFS and the Council will review the methods available for reducing halibut bycatch listed here to determine their effectiveness and will initiate changes, as necessary, in response to this review or to public testimony and comment.

Halibut Discard Mortality Rates

The Council recommended and NMFS proposes that the halibut discard mortality rates (DMRs) developed and recommended by the IPHC for the 2008 and 2009 GOA groundfish fisheries be used to monitor the proposed 2008 and 2009 GOA halibut bycatch mortality limits. The IPHC recommended use of long-term average DMRs for the 2008 and 2009 groundfish fisheries. The IPHC will analyze observer data annually and recommend changes to the DMRs where a fishery DMR shows large variation from the mean. Most of the IPHC's assumed DMRs were based on an average of mortality rates determined from NMFS observer data collected between 1996 and 2005. Long-term average DMRs were not available for some fisheries, so rates from the most recent years were used. For the “other species” and skate fisheries, where insufficient mortality data are available, the mortality rate of halibut caught in the Pacific cod fishery for each gear type was recommended as the default rate. Table 10 lists the proposed 2008 and 2009 DMRs, which are unchanged from the 2007 DMRs. The DMRs for hook-and-line target fisheries range from 10 to 14 percent. The DMRs for trawl target fisheries range from 53 to 76 percent. Each DMR for the pot target fisheries is 16 percent. A copy of the document justifying these DMRs is available from the Council (see ADDRESSES) and is discussed in Appendix A of the final 2006 SAFE report, dated November 2006.

American Fisheries Act (AFA) Catcher Processor and Catcher Vessel Groundfish Harvest and PSC Limits

Section 679.64 establishes groundfish harvesting and processing sideboard limits on AFA catcher processors and catcher vessels in the GOA. These sideboard limits are necessary to protect the interests of fishermen and processors who do not directly benefit from the AFA from expansion in their fisheries by those fishermen and processors who receive exclusive harvesting and processing privileges under the AFA. Section 679.7(k)(1)(ii) prohibits listed AFA catcher processors from harvesting any species of fish in the GOA. Additionally, section 679.7(k)(1)(iv) prohibits listed AFA catcher processors from processing any pollock in the GOA and any groundfish harvested in Statistical Area 630 of the GOA.

AFA catcher vessels that are less than 125 ft (38.1 m) LOA, have annual landings of pollock in the Bering Sea and Aleutian Islands less than 5,100 mt, and have made at least 40 GOA groundfish landings from 1995 through 1997 are exempt from GOA sideboard limits under § 679.64(b)(2)(ii). Sideboard limits for non-exempt AFA catcher vessels operating in the GOA are based on their traditional harvest levels in groundfish fisheries covered by the GOA FMP. Section 679.64(b)(3)(iii) establishes the GOA groundfish sideboard limits based on the retained catch of non-exempt AFA catcher vessels of each sideboard species from 1995 through 1997 divided by the TAC for that species over the same period. Table 11 lists the proposed 2008 and 2009 groundfish sideboard limits for non-exempt AFA catcher vessels. All targeted or incidental catch of sideboard species made by non-exempt AFA catcher vessels will be deducted from the sideboard limits in Table 11.

BILLING CODE 3610-22-P

BILLING CODE 3610-22-C

The PSC sideboard limits for non-exempt AFA catcher vessels in the GOA are based on the aggregate retained groundfish catch by non-exempt AFA catcher vessels in each PSC target category from 1995 through 1997 divided by the retained catch of all vessels in that fishery from 1995 through 1997 (§ 679.64(b)(4)). Table 12 lists the proposed 2008 and 2009 catcher vessel halibut PSC limits for non-exempt AFA vessels using trawl gear.

Non-AFA Crab Vessel Groundfish Sideboard Limits

Section 680.22 establishes groundfish catch limits for vessels with a history of participation in the Bering Sea snow crab fishery to prevent these vessels from using the increased flexibility provided by the Crab Rationalization program to expand their level of participation in the GOA groundfish fisheries. Sideboard limits restrict a vessel's harvest to its historical landings in all GOA groundfish fisheries (except the fixed-gear sablefish fishery). Sideboard limits also apply to landings made using an LLP license derived from the history of a restricted vessel, even if that LLP is used on another vessel.

Sideboard limits for non-AFA crab vessels operating in the GOA are based on their traditional harvest levels of TAC in groundfish fisheries covered by the GOA FMP. Sections 680.22 (d) and (e) base the groundfish sideboard limits in the GOA on the retained catch by non-AFA crab vessels of each sideboard species from 1996 through 2000 divided by the total retained harvest of that species over the same period. Table 13 lists these proposed 2008 and 2009 groundfish sideboard limits for non-AFA crab vessels. All targeted or incidental catch of sideboard species made by non-AFA crab vessels will be deducted from the sideboard limits in Table 13.

Vessels exempt from Pacific cod sideboards are those that landed less than 45,359 kilograms of Bering Sea snow crab and more than 500 mt of groundfish (in round weight equivalents) from the GOA between January 1, 1996 and December 31, 2000, and any vessel named on an LLP that was generated in whole or in part by the fishing history of a vessel meeting the criteria in § 680.22(a)(3).

BILLING CODE 3610-22-P

BILLING CODE 3610-22-C

Rockfish Program Groundfish Sideboard Limitations and Halibut Mortality Limitations

The Rockfish Program establishes sideboards to limit the ability of participants eligible for the Rockfish Program to harvest fish in fisheries other than the Central GOA rockfish fisheries. The Rockfish Program provides certain economic advantages to harvesters. Harvesters could use this economic advantage to increase their participation in other fisheries, adversely affecting the participants in other fisheries. The proposed sideboards for 2008 and 2009 limit the total amount of catch in other groundfish fisheries that could be taken by eligible harvesters and limit the amount of halibut mortality to historic levels. The sideboard measures are in effect only during the month of July. Traditionally, the Central GOA rockfish fisheries opened in July. The sideboards are designed to restrict fishing during the historical season for the fishery, but allow eligible rockfish harvesters to participate in fisheries before or after the historical rockfish season. The sideboard provisions are discussed in detail in the proposed rule (71 FR 33040, June 7, 2006) and final rule (71 FR 67210, November 20, 2006) for the Rockfish Program. Table 14 lists the proposed 2008 and 2009 Rockfish Program harvest limits in the WYK District and the Western GOA. Table 15 lists the proposed 2008 and 2009 Rockfish Program halibut mortality limits for catcher processors and catcher vessels.

Gulf of Alaska Amendment 80 Vessel Groundfish Harvest and PSC Limits

Section 679.92 establishes groundfish harvesting sideboard limits on all Amendment 80 program vessels, other than the F/V GOLDEN FLEECE, to amounts no greater than the limits shown in Table 37 to part 679. Sideboard limits in the GOA are proposed for pollock in the Western and Central Regulatory Areas and in the WYK District, for Pacific cod gulfwide, for Pacific ocean perch and pelagic shelf rockfish in the Western Regulatory Area and WYK District, and for northern rockfish in the Western Regulatory Area. The harvest of Pacific ocean perch, pelagic shelf rockfish, and northern rockfish in the Central Regulatory Area of the GOA is subject to regulation under the Central GOA Rockfish Program. Amendment 80 program vessels not qualified under the Rockfish Program are excluded from directed fishing for these rockfish species in the Central GOA. Under regulations, the F/V GOLDEN FLEECE is prohibited from directed fishing for pollock, Pacific cod, Pacific ocean perch, pelagic shelf rockfish, and northern rockfish in the GOA. These sideboard limits are necessary to protect the interests of fishermen who do not directly benefit from the Amendment 80 program from expansion into their fisheries by the program's participants.

Groundfish sideboard limits for Amendment 80 vessels operating in the GOA are based on their average aggregate harvests from 1998 to 2004. Table 16 lists the proposed 2008 and 2009 sideboard limits for Amendment 80 vessels. All targeted or incidental catch of sideboard species made by Amendment 80 vessels will be deducted from the sideboard limits in Table 16.

The PSC sideboard limits for Amendment 80 vessels in the GOA are based on the historic use of halibut PSC by Amendment 80 vessels in each PSC target category from 1998 through 2004 (Table 38 to 50 CFR part 679). These values are slightly lower than the average historic use to accommodate two factors: allocation of halibut PSC CQ under the Central GOA Rockfish Program and the exemption of the F/V GOLDEN FLEECE from this restriction. Table 17 lists the proposed 2008 and 2009 halibut PSC limits for Amendment 80 vessels.

Classification

NMFS has determined that the proposed specifications are consistent with the FMP and preliminarily determined that the proposed specifications are consistent with the Magnuson-Stevens Act and other applicable laws.

This action is authorized under 50 CFR 679.20 and is exempt from review under Executive Order 12866.

NMFS prepared a Final EIS for this action and made it available to the public on January 12, 2007 (72 FR 1512). On February 13, 2007, NMFS issued the Record of Decision (ROD) for the Final EIS. Copies of the Final EIS and ROD for this action are available from NMFS (see ADDRESSES). The Final EIS analyzes the environmental consequences of the proposed action and its alternatives on resources in the action area. The Final EIS found no significant environmental consequences from the proposed action or its alternatives.

NMFS also prepared an Initial Regulatory Flexibility Analysis (IRFA) as required by Section 603 of the Regulatory Flexibility Act. The IRFA evaluates the impacts on small entities of alternative harvest strategies for the groundfish fisheries in the Exclusive Economic Zone (EEZ) off of Alaska. While the specification numbers may change from year to year, the harvest strategy for establishing those numbers remains the same. NMFS therefore is using the same IRFA prepared in connection with the EIS. NMFS published notice of the availability of the IRFA and its summary in the classification section of the proposed harvest specifications for the groundfish fisheries in the BSAI in the Federal Register on December 15, 2006 (71 FR 75460). The comment period on the BSAI proposed harvest specifications and IRFA ended on January 16, 2007. NMFS did not receive any comments on the IRFA.

A description of the action, why it is being considered, and the legal basis for this action are contained in the preamble above. This IRFA meets the statutory requirements of the Regulatory Flexibility Act of 1980, as amended by the Small Business Regulatory Enforcement Fairness Act of 1996 (5 U.S.C. 601-612). A copy of this analysis is available from NMFS (see ADDRESSES). A summary of the IRFA follows.

The action under consideration is a harvest strategy to govern the catch of groundfish in the BSAI. The preferred alternative is the status quo harvest strategy in which TACs fall within the range of ABCs recommended by the Council's harvest specification process and TACs recommended by the Council. This action is taken in accordance with the FMP prepared by the Council pursuant to the Magnuson-Stevens Act.

The directly regulated small entities include approximately 747 small catcher vessels and less than 20 small catcher processors. The entities directly regulated by this action are those that harvest groundfish in the EEZ of the GOA, and in parallel fisheries within State of Alaska waters. These include entities operating catcher vessels and catcher processor vessels within the action area, and entities receiving direct allocations of groundfish. Catcher vessels and catcher processors were considered to be small entities if they had annual gross receipts of $4 million per year or less from all economic activities, including the revenue of their affiliated operations. Data from 2005 were the most recent available to determine the number of small entities.

Estimates of first wholesale gross revenues for the GOA were used as indices of the potential impacts of the alternative harvest strategies on small entities. An index of revenues were projected to decline under the preferred alternative due to declines in ABCs for key species in the GOA. The index of revenues declined by less than 4 percent between 2006 and 2007 and by less than one percent between 2006 and 2008.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5 would have set TACs equal to zero. Alternative 5 is the “no action” alternative.

Alternatives 3, 4, and 5 were all associated with smaller levels for important fishery TACs than Alternative 2. Estimated total first wholesale gross revenues were used as an index of potential adverse impacts to small entities. As a consequence of the lower TAC levels, Alternatives 3, 4, and 5 all had smaller of these first wholesale revenue indices than Alternative 2. Thus, Alternatives 3, 4, and 5 had greater adverse impacts on small entities. Alternative 1 appeared to generate higher values of the gross revenue index for fishing operations in the GOA than Alternative 2. A large part of the Alternative 1 GOA revenue appears to be due to the assumption that the full Alternative 1 TAC would be harvested. Much of the larger revenue is due to increases in flatfish TACs that were much greater for Alternative 1 than for Alternative 2. In recent years, halibut bycatch constraints in these fisheries have kept actual flatfish catches from reaching Alternative 1 levels. Therefore, a large part of the revenues associated with Alternative 1 are unlikely to occur. Also, Alternative 2 TACs are constrained by the ABCs the Plan Teams and SSC are likely to recommend to the Council on the basis of a full consideration of biological issues. These ABCs are often less than Alternative 1's maximum permissible ABCs. Therefore higher TACs under Alternative 1 may not be consistent with prudent biological management of the resource. For these reasons, Alternative 2 is the preferred alternative.

This action does not modify recordkeeping or reporting requirements, or duplicate, overlap, or conflict with any Federal rules.

Adverse impacts on marine mammals resulting from fishing activities conducted under this rule are discussed in the Final EIS (see ADDRESSES).

Authority: 16 U.S.C. 773 et seq., 1801 et seq., 3631 et seq; Pub. L. 108-447.

Dated: November 29, 2007.
Samuel D. Rauch III,
Deputy Assistant Administrator for Regulatory Programs, National Marine Fisheries Service.

[FR Doc. 07-5940 Filed 12-5-07; 8:45 am]

BILLING CODE 3510-22-P